FEDERAL COMMUNICATIONS COMMISSION

47 CFR Part 54

[WC Docket No. 21-31; FCC 24-76; FR ID 237188]

Addressing the Homework Gap Through the E-Rate Program

AGENCY: Federal Communications Commission.

ACTION: Proposed rule.

SUMMARY: In this document, the Federal Communications Commission (Commission or FCC) seeks further comment on how to ensure the success of schools and libraries' hotspot lending programs, including through continued collaboration by multiple stakeholders.

DATES: Comments are due on or before October 4, 2024, and reply comments are due on or before November 4, 2024. If you anticipate that you will be submitting comments but find it difficult to do so within the period of time allowed by this document, you should advise the contact person listed as soon as possible.

ADDRESSES: Pursuant to §§ 1.415 and 1.419 of the Commission's rules, 47 CFR 1.415, 1.419, interested parties may file comments and reply comments. You may submit comments identified by WC Docket No. 21-31 by any of the following methods:

• Electronic Filers: Comments may be filed electronically using the internet by accessing the Commission's Electronic Comment Filing System (ECFS): https://www.fcc.gov/ecfs/.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701.

• Filings sent by U.S. Postal Service First-Class Mail, Priority Mail, and Priority Mail Express must be sent to 45 L Street NE, Washington, DC 20554.

• People with Disabilities: To request materials in accessible formats for people with disabilities (braille, large print, electronic files, audio format), send an email to fcc504@fcc.gov or call the Consumer & Governmental Affairs Bureau at 202-418-0530 (voice), 202-418-0432 (TTY).

FOR FURTHER INFORMATION CONTACT: For further information, please contact, Molly O'Conor, Telecommunications Access Policy Division, Wireline Competition Bureau, at Molly.Oconor@fcc.gov or (202) 418-7400. Requests for accommodations should be made as soon as possible in order to allow the agency to satisfy such requests whenever possible. Send an email to fcc504@fcc.gov or call the Consumer and government Affairs Bureau at (202) 418-0530.

SUPPLEMENTARY INFORMATION: This is a synopsis of the Commission's Report and Order (Order) and Further Notice of Proposed Rulemaking (FNPRM) in WC Docket No. 21-31; FCC 24-76, adopted July 18, 2024 and released July 29, 2024. The full text of this document is available for public inspection during regular business hours at Commission's headquarters 45 L Street NE, Washington, DC 20554 or at the following internet address: https://docs.fcc.gov/public/attachments/FCC-24-76A1.pdf.

Availability of Documents. Comments, reply comments, and ex parte submissions will be publicly available online via ECFS.

Ex Parte Presentations-Permit-But-Disclose. The proceeding this document initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Providing Accountability Through Transparency Act. Consistent with the Providing Accountability Through Transparency Act, Public Law 118-9, a summary of this document will be available on https://www.fcc.gov/proposed-rulemakings.

Synopsis

Introduction

Technology has become an integral part of the modern classroom and receiving an education, especially in the recent past, and the barrier to accessing such technology puts individuals at a significant disadvantage to their peers and often prevents educators from being able to teach. In the Order, the Commission takes steps to modernize the E-Rate program to meet the evolving needs of schools and libraries around the country by allowing for the distribution of Wi-Fi hotspots and services to students, school staff, and library patrons for off-premises use.

Since its inception more than 25 years ago, the Commission's E-Rate program has supported high-speed, affordable internet services to and within school and library buildings, and has been instrumental in providing students, school staff, and library patrons with access to the essential broadband services that are required for next-generation learning. Recognizing the Commission's responsibility to ensure the E-Rate program evolves with the educational needs of students and library patrons, the Commission has frequently modernized the program to reflect the changes in education and technology, including by providing more equitable access to funding for Wi-Fi networks in schools and libraries. Recently the Commission has seen significant advances in technology that have changed not only the way schools and libraries provide educational resources, but also the way students, school staff, and library patrons access such resources. In particular, an internet connection has become an essential requirement for learners to access tasks that are vital to obtaining an education, including homework assignments, online classes, library materials, continuing education, and career and government applications.

The need for internet connectivity beyond the campus boundaries was further underscored by nationwide school and library closures beginning in 2020 as a result of the COVID-19 pandemic, when most educational activities were unexpectedly forced to shift online overnight. During this time, thanks to the creativity and resourcefulness of schools and libraries around the country, many students, school staff, and library patrons that would have been caught on the wrong side of the digital divide or the “Homework Gap”—i.e., students unable to fully participate in educational opportunities because they lack broadband connectivity in their homes—were able to obtain a broadband connection provided by their local school or library. Many schools and libraries used funding provided through the congressionally-appropriated Emergency Connectivity Fund (ECF) program to purchase connected devices, Wi-Fi hotspot devices, broadband connections, and other eligible equipment and services for students, school staff, and library patrons in need, to use at a variety of locations, including locations other than schools and libraries, during the pandemic. Notably, schools and libraries found success in establishing ECF-funded Wi-Fi hotspot lending programs to provide the hotspot equipment and monthly mobile wireless broadband services needed to connect individuals who otherwise lacked the internet access needed to fully participate in remote learning.

Even with schools and libraries reopening and returning to in-person instruction, the need for internet connections outside of the school or library buildings to fully engage in education remains, and schools and libraries are seeking to continue funding these valuable lending programs to keep their students, school staff, and library patrons connected. That is why the Commission adapts the E-Rate program to recognize these needs. Building on its experiences in the ECF program and the comments the Commission received in response to the Notice of Proposed Rulemaking (NPRM), 88 FR 85157, December 7, 2023, the Commission adopts a budget mechanism to allow for the equitable distribution of Wi-Fi hotspots and services to students, school staff, and library patrons. These rules are intended to be another step in updating the E-Rate program to reflect the realities of many schools and libraries by lending Wi-Fi hotspots and services through community and school libraries across the country so that students, school staff, and library patrons with the greatest need can be connected and learn without limits. The Commission also adopts the FNPRM to seek comment on additional ways to ensure the continued success of such Wi-Fi hotspot lending programs funded through the E-Rate program.

Further Notice of Proposed Rulemaking

In this document, the Commission seeks further comment on how to ensure the success of schools and libraries' hotspot lending programs, including through continued collaboration by multiple stakeholders. In particular, the Commission seeks comment on the most effective means to ensure that limited E-Rate program funds are being used effectively and efficiently, and that Wi-Fi hotspots and services are being used for educational purposes and are not going unused. In the Order, the Commission focuses on ensuring distribution of the Wi-Fi hotspots and setting a maximum period of non-usage that will result in a line being terminated. The Commission also relies on program integrity and post-commitment reviews to check compliance with its rules. Now, the Commission seeks to further refine its rules to determine a fair and administratively feasible mechanism to set clear limits on E-Rate support for hotspot devices that have been distributed, but that may have limited periods of non-use, without unfairly burdening both applicants and service providers. The applicant community seeks assurance that schools and libraries do not become the financial guarantors of all service charges for which there was non-usage, while service providers assert that they have no way to control or enforce the use of a hotspot provided by an applicant to a student, staff member, or library patron. For this reason, the Commission has adopted what it finds to be a sensible approach for addressing non-usage by focusing on distribution, prohibiting warehousing, terminating service to lines that go unused for approximately 90 days, and relying on program integrity reviews to check compliance as the commission begin implementing Wi-Fi hotspot and service support. The Commission now seeks further comment on administratively feasible methods to encourage maximal usage of these services and devices.

For instance, the Commission seeks comment on ways applicants could take active steps to ensure that E-Rate-supported Wi-Fi hotspots are being used by the students, school staff, and library patrons to whom they are distributed. The Commission recognizes that even under the best circumstances, there may be students or library patrons who simply do not turn on a device once they have checked it out. In these instances, are there steps the applicant should be required to take in order to decrease the chances that the distributed hotspots go unused by the users? Should schools and libraries be required to have technical support available to teach users how to use the Wi-Fi hotspots or troubleshoot issues that may arise? Should schools and libraries be required to limit the lending period to a short period (e.g., 21 days or less) in order to redistribute hotspots to other students or library patrons that may have both the need and ability to use the hotspot? For longer lending periods, should the Commission imposes a specific period of non-usage (e.g., 30 days) after which schools and libraries must seek the return of the hotspot so the device can be loaned out again to another user who will use the device? The Commission understands that schools and libraries often already do this, but seek comment on whether such policies and processes should be required before reimbursement is permitted and, if so, what the best approaches are for enforcing this requirement. What other steps can schools and libraries take to ensure the E-Rate-funded hotspots and services are being used by students, school staff members, and library patrons? Are there better ways to implement certifications to reduce the chances that the E-Rate program is supporting Wi-Fi hotspots and services during periods of non-use? To the extent the Commission continues to require applicants to have activated and made the Wi-Fi hotspots available, as well as publicized their availability, is certifying to having taken these steps on the FCC Form 486 prior to submitting their or their service provider's request(s) for reimbursement sufficient? Would requiring applicants to certify to having taken these measures on the request for reimbursement form or some other form provide better certainty that these actions have been taken? How else might the Commission ensure that applicants have taken sufficient measures to make effective use of these E-Rate funded hotspots and services? Please include examples from current hotspot lending programs on how non-usage is currently being addressed.

The Commission next seeks comment on ways service providers could take additional actions to reduce the amount of E-Rate funds being spent on Wi-Fi hotspots and services that are not being actively used by the intended users. Should the Commission shorten the period of non-usage from approximately 90 days and require service providers to terminate service when there are 30 days of unused services associated with a particular Wi-Fi hotspot line of service? If not at 60 days, when should notice to the applicant be made and how? Should the Commission require additional steps or documentation before allowing an applicant to restart service on a terminated line? Is there an appropriate amount of time the applicant should be required to wait to restart the service? Consistent with the category two budgets, applicants may file a request to reduce or cancel a funding commitment in order to use that funding in a future funding year of the budget cycle. However, if the applicant has service terminated due to non-usage, should the Commission consider prohibiting them from later reducing their funding commitment to restore the undisbursed funding to their hotspot budget? The Commission also seek comment on other billing paradigms that could make the program more responsive to usage. Should the Commission consider requiring alternative billing methods, such as usage-based pricing models, for Wi-Fi hotspot service supported by the E-Rate program? In effect, this would allow reimbursement from the E-Rate program only for the service that was used, but such an approach would present new difficulties in determining the amount being requested during the FCC Form 471 application. If the Commission uses this approach, should the Commission remove the funding cap for recurring service adopted in the Order? Why or why not?

While the Commission is requiring that service providers provide usage reports to applicants at least once per billing cycle, the Commission also seeks comment on whether it should require submission of data usage reports during the invoicing process. For example, should service providers provide the Universal Service Administrative Company (USAC) with reports when an applicant is using fewer than 25% (or some other threshold) of the service lines? Recognizing that the format for these data submissions may also be important to preventing waste and improving program integrity, what structure should data usage reports have and what format should they be provided in? Are there ways to make such data usage reports easier for applicants, and in particular small applicants without dedicated staff for a hotspot lending program, to quickly identify the hotspot devices and services that are going unused? Would it make sense to have the reports identify the number of lines that went unused during a particular billing cycle and reduce the reimbursement for each unused line to a nominal amount, such as $3, that would pay for the continued access to the network that went unused? Similarly, would additional structure be needed for the applicant asset inventories to better match the data usage reports and would that have value? What steps should the Commission take to make sure the information provided does not include personally identifiable information or other sensitive information? Should there be a data usage threshold higher than zero to consider a line used, and if so, what would that threshold be? Should service providers be required to offer a simple way to remotely discontinue and reestablish lines when requested by the applicant? Some libraries reported already having such a mechanism to stop service to a specific device if it is not being used; does the size of the school or library impact the feasibility of implementing such a mechanism for all of the E-Rate funded Wi-Fi hotspots and services in circulation? Why or why not? The Commission also seeks comment on the experiences of schools and libraries being able to discontinue and reestablish lines of services when they request to do so from their service provider. Are different levels of service needed depending on the school or library size? Are there provisions regarding non-usage that could be included in a contract between a service provider and an applicant to help address these concerns in a manner that balances the responsibility between the service provider and applicant? Are there times that an early termination fee for lost or broken hotspot devices should be permitted to ensure that service providers are not left responsible for the cost of a broken hotspot?

The Commission seeks comment on these approaches and whether they would benefit the E-Rate program and reduce the amount of funding spent on Wi-Fi hotspots and services during periods of non-use. To the extent applicants and service providers believe burdens would increase under any of these scenarios, the Commission seeks detailed information on the potential costs and benefits. What other steps could be taken to reduce that amount of E-Rate funding disbursed for Wi-Fi hotspots and services during periods of non-use? Are there other practices the Commission should adopt to achieve these goals? For instance, should the E-Rate program reduce and limit the number of service lines or the quantity of hotspot devices that can be requested in future funding years based on the applicant's prior funding year data on non-usage? Would this incentivize applicants to better right-size their E-Rate supported hotspot lending program? Why or why not?

Relatedly, the Commission seeks further comment on whether to adopt user access restrictions, such as asking for student credentials, like a school-issued email and password, or more technical limitations on who or which devices may connect to the E-Rate-funded Wi-Fi hotspots. To the extent entities already employ user access restrictions, the Commission encourages commenters to provide specific information about the programs they use, the costs they are paying, and the technical functionalities and/or limitations of such restrictions. In the absence of adopting restrictions, the Commission also seeks comment on best practices for user access restrictions. Have library hotspot lending programs also implemented user access restrictions? If so, do they differ from school credentialing options? For example, is user access for Wi-Fi hotspots based on the patron's library card or other library loaning access mechanism?

Cybersecurity Risk Management. The Commission seeks comment on ways to encourage cybersecurity best practices and risk management for schools, libraries, and service providers offering Wi-Fi hotspots through E-Rate. The Commission adopted the Schools and Libraries Cybersecurity Pilot Program (Pilot Program) in June 2024 to explore whether and how to utilize USF support to improve cybersecurity practices for K-12 schools and libraries. Recognizing the critical needs of schools and libraries to protect their broadband networks and sensitive student, school staff, and library patron data, the Commission seeks comment on how to ensure that using E-Rate support for Wi-Fi hotspots does not introduce additional vulnerabilities or risks to cyberattacks. Specifically, the Commission seeks comment on whether service providers providing Wi-Fi hotspots and service to schools and libraries in the E-Rate program should be required to implement cybersecurity and supply chain risk management plans. Service providers receiving support through the High Cost Enhanced Alternative Connect America Cost Model (Enhanced A-CAM) program are required to develop and submit cybersecurity and supply chain risk management plans to USAC and certify compliance with these requirements. These plans must reflect the latest version of the NIST Framework for Improving Critical Infrastructure Cybersecurity and cybersecurity best practices. Should service providers receiving support for Wi-Fi hotspots be required to meet the same or similar standards? Are these service providers already in the practice of maintaining these or similar plans? Why or why not? Would a certification on the FCC Form 473 (Service Provider Annual Certification) be sufficient to allay concerns over cybersecurity vulnerabilities faced by schools and libraries? What are the risks of allowing third-party Wi-Fi hotspots access to a network? What burdens would resellers or smaller service providers face in complying with such requirements?

OPEN Government Data Act. The Commission also seeks comment about whether information reported to the FCC or to the Administrator pursuant to the requirements adopted in the Order relating to data usage reports and asset and service inventories are “data assets” potentially subject to the requirements of the OPEN Government Data Act. The OPEN Government Data Act, requires agencies to make “public data assets” available under an open license and as “open Government data assets,” i.e., in machine-readable, open format, unencumbered by use restrictions other than intellectual property rights, and based on an open standard that is maintained by a standards organization. This requirement is to be implemented “in accordance with guidance by the Director” of the Office of Management and Budget.

The Commission tentatively concludes that data usage reports and/or asset and service inventories provided to it or the Administrator do not constitute a “data asset” as defined in 44 U.S.C. 352(17). A “data asset” is defined as “a collection of data elements or data sets that may be grouped together,” and “data” as “recorded information, regardless of form or the media on which the data is recorded.” Each usage report and asset and service inventory is separate and distinct from one another, and the Commission does not expect that the information contained in the reports and inventories could readily be grouped together in any meaningful way. The Commission tentatively concludes therefore that, in the absence of a standardized collection form, the proposed collection of data usage reports and asset and service inventories would not constitute a “data asset” subject to the requirements of the OPEN Government Data Act. The Commission seeks comment on this tentative conclusion.

If, however, the Commission proposed collection of data usage reports and asset and service inventories can be viewed as a “data asset,” it seeks comment on the extent to which such information would constitute a “public data asset” under the OPEN Government Data Act. A “public data asset” is “a data asset, or part thereof, maintained by the Federal Government that has been, or may be, released to the public, including any data asset, or part thereof, subject to disclosure under [the Freedom of Information Act (FOIA)].” Thus, the Commission seeks comment on the extent to which the information contained in these reports and inventories would be protected from disclosure under the FOIA or as personally identifiable information. If the information is subject to disclosure under the FOIA, and therefore something the FCC would be required to publish in a machine-readable format, the Commission seeks comment on whether it should also require the information to meet certain requirements to enable that publication. Should the Commission require that the information be submitted in machine-readable and structured format to facilitate data analysis regardless of the extent to which the data may be subject to the OPEN Government Data Act public availability requirement?

Promoting Digital Equity and Inclusion. The Commission, as part of its continuing effort to advance digital equity for all, including people of color, persons with disabilities, persons who live in rural or Tribal areas, and others who are or have been historically underserved, marginalized, or adversely affected by persistent poverty or inequality, invites comment on any equity-related considerations and benefits (if any) that may be associated with the proposals and issues discussed herein. Specifically, the Commission seeks comment on how its proposals may promote or inhibit advances in diversity, equity, inclusion, and accessibility, as well as the scope of the Commission's relevant legal authority.

Procedural Matters

Paperwork Reduction Act. This document seeks comment on possible modified information collection requirements. The Commission, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. 3506(c)(4), the Commission seeks specific comment on how it might further reduce the information collection burden for small business concerns with fewer than 25 employees.

Regulatory Flexibility Act. As required by the Regulatory Flexibility Act of 1980, as amended (RFA), the Commission has prepared this Initial Regulatory Flexibility Analysis (IRFA) of the possible significant economic impact on a substantial number of small entities by the policies and rules proposed in the FNPRM. Written public comments are requested on this IRFA. Comments must be identified as responses to the IRFA and must be filed by the deadlines for comments in the FNPRM. The Commission will send a copy of the FNPRM, including this IRFA, to the Chief Counsel for Advocacy of the Small Business Administration (SBA).

The E-Rate program will help fund the off-premises use of Wi-Fi hotspots and services for students, school staff, and library patrons by funding Wi-Fi hotspots and services for schools and libraries to establish lending programs. The primary objective of the FNPRM is to seek comments that will help maintain the success of the Wi-Fi hotspots lending programs by ensuring there is usage for educational purposes. In the FNPRM, the Commission seeks comments from stakeholders including schools, libraries, and service providers, to come up with an administratively feasible method to encourage maximal usage of the Wi-Fi hotspots and services. The FNPRM requests examples on how non-usage is being addressed in current hotspot lending programs. The FNPRM invites comments on how to avoid unfairly burdening either applicants or service providers, and asks what steps both can take to reduce non-usage.

For example, in the FNPRM the Commission asks how to safeguard Wi-Fi hotspots' usage by asking if schools and libraries should have technical support for users and if they should have a limit on the lending period before redistributing the hotspots. The FNPRM further requests comments on usage reports and how schools, libraries, and providers can use the reports to assist in preventing non-usage. The FNPRM also asks about certifications to reduce the possibility that E-Rate funds are going to unuse devices and services. Further, the FNPRM requests comments on what further actions, providers and schools should take after the discovery of non-usage. Additionally, the FNPRM seeks comment on how to ensure that using E-Rate support for Wi-Fi hotspots does not introduce additional vulnerabilities or risks to cyberattacks. The information and comments requested in the FNPRM will help strengthen the integrity of the E-Rate program by ensuring usage of Wi-Fi hotspots and services.

The proposed actions are authorized pursuant to sections 1 through 4, 201 through 202, 254, 303(r), and 403 of the Communications Act of 1934, as amended.

The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one that: (1) is independently owned and operated; (2) is not dominant in its field of operation; and (3) satisfies any additional criteria established by the Small Business Administration (SBA).

Small Businesses, Small Organizations, Small Governmental Jurisdictions. The Commission's actions, over time, may affect small entities that are not easily categorized at present. The Commission therefore describes, at the outset, three broad groups of small entities that could be directly affected herein. First, while there are industry specific size standards for small businesses that are used in the regulatory flexibility analysis, according to data from the Small Business Administration's (SBA) Office of Advocacy, in general a small business is an independent business having fewer than 500 employees. These types of small businesses represent 99.9% of all businesses in the United States, which translates to 33.2 million businesses.

Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2022, there were approximately 530,109 small exempt organizations in the U.S. reporting revenues of $50,000 or less according to the registration and tax data for exempt organizations available from the IRS.

Finally, the small entity described as a “small governmental jurisdiction” is defined generally as “governments of cities, counties, towns, townships, villages, school districts, or special districts, with a population of less than fifty thousand.” U.S. Census Bureau data from the 2022 Census of Governments indicate there were 90,837 local governmental jurisdictions consisting of general purpose governments and special purpose governments in the United States. Of this number, there were 36,845 general purpose governments (county, municipal, and town or township) with populations of less than 50,000 and 11,879 special purpose governments (independent school districts) with enrollment populations of less than 50,000. Accordingly, based on the 2022 U.S. Census of Governments data, the Commission estimates that at least 48,724 entities fall into the category of “small governmental jurisdictions.”

Small entities potentially affected by the rules herein are Schools, Libraries, Wired Telecommunications Carriers, All Other Telecommunications, Wireless Telecommunications Carriers (except Satellite), Wireless Telephony, Wireless Carriers and Service Providers, Telecommunications Resellers, Local Resellers, Wired Broadband internet Access Service Providers (Wired ISPs), Wireless Broadband internet Access Service Providers (Wireless ISPs or WISPs), internet Service Providers (Non-Broadband), Wireless Telephony, Vendors of Infrastructure Development or Network Buildout, Telephone Apparatus Manufacturing, Radio and Television Broadcasting and Wireless Communications Equipment Manufacturing.

The potential rule changes proceeding out of the FNPRM, could impose some new or modified reporting, recordkeeping, or other compliance requirements on schools, libraries, service providers, including small entities. The FNPRM requests comments on how to prevent non-usage of Wi-Fi hotspots and services funded by the E-Rate program and the comments receive will help determine what reporting, recordkeeping, or other compliance requirements the Commission should adopt to prevent or reduce non-usage. The FNPRM specifically seeks comments on data usage reports, and it is possible that schools, libraries, and service providers, including small entities, could have additional requirements related to retaining and producing usage reports and certifications. The FNPRM also seeks comments on certifications as a measure to help ensure usage prior to reimbursement. It is also possible that schools, libraries, and service providers, including small entities, could have new requirements related to certifications.

Additionally, the FNPRM seeks comments on whether applicants should be required to limit the lending period to a shorter period and this may create more recordkeeping, since an increase in the frequency of redistribution is likely to increase the frequency of recording the inventory and asset requirements that are mandatory for a loaned hotspot and service. The FNPRM also seeks comment on whether schools and libraries must have technical support available to teach users how to use the Wi-Fi hotspots, and troubleshoot issues as they arise. For service providers, in addition to possible new requirements with usage reports, including making the reports transparent and easier for applicants and the Commission to identify when hotspots are unused, they may also be required to offer a simple way to remotely discontinue and reestablish lines when requested by applicants, which may create more reporting and recordkeeping requirements. Further, applicants and providers may be required to include provisions regarding non-usage in their contracts to help address these concerns in a manner that balances the burden between the provider and applicant. The FNPRM also seeks comment on whether service providers providing Wi-Fi hotspots and service to schools and libraries in the E-Rate program should be required to implement cybersecurity and supply chain risk management plans.

In assessing the cost of compliance for small entities, at this time the Commission cannot quantify the cost of compliance with any of the potential rule changes that may be adopted. Further, the Commission is not in a position to determine whether, if adopted, the matters upon which the FNPRM seeks comment will require small entities to hire professionals to comply. The information the Commission receives in comments, including, where requested, cost information, will help it identify and evaluate relevant compliance matters for small entities, including compliance costs and other burdens that may result from potential changes discussed in the FNPRM. The Commission will ensure that any reporting, recordkeeping, or other compliance burdens are outweigh by the benefits of protecting the integrity of the E-Rate program, and by having a successful Wi-Fi hotspot lending program to meet the educational needs of students, school staff, and library patrons.

The RFA requires an agency to describe any significant alternatives that could minimize impacts to small entities that it has considered in reaching its proposed approach, which may include the following four alternatives (among others): “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”

In the FNPRM, the Commission seeks comment on how to ensure that there is educational usage of the E-Rate supported Wi-Fi hotspots and services. The Commission also requests comments that considers the impact on small entities. For example, the Commission seeks comments on how service providers participating in the E-Rate program for hotspot lending should be required to provide transparent reporting to applicants on data usage that makes it easy for schools and libraries, and in particular small applicants without dedicated staff for a hotspot lending program, to identify the devices that are going unused. In the FNPRM, the Commission considers alternatives by asking if for the E-Rate program, it should consider the requirement of alternative billing methods, such as usage-based pricing models. The FNPRM also requests comments on whether service providers should be required to offer a simple way to remotely discontinue and reestablish lines when requested by applicants and if there are different levels of service needed depending on the school or library size.

Further, the FNPRM seeks comments on potential costs and benefits of the proposed rule changes. The Commission expects the information received in the comments in response to the FNPRM will allow it to more fully consider ways to minimize the economic impact on small entities and explore additional alternatives to improve and simplify opportunities for small entities to participate in the E-Rate program, while also ensuring usage in the E-Rate funded school and library hotspot lending programs.

Federal Rules that May Duplicate, Overlap, or Conflict with the Proposed Rules. None.

Ordering Clauses

Accordingly, it is ordered, that pursuant to the authority contained in sections 1 through 4, 201-202, 254, 303(r), and 403 of the Communications Act of 1934, as amended, 47 U.S.C. 151-154, 201-202, 254, 303(r), and 403, Further Notice of Proposed Rulemaking is adopted effective September 19, 2024.

It is further ordered that the Office of the Secretary shall send a copy of the Further Notice of Proposed Rulemaking, including the Initial Regulatory Flexibility Act Analysis, to the Chief Counsel for Advocacy of the Small Business Administration.

Federal Communications Commission
Marlene Dortch,
Secretary, Office of the Secretary.

[FR Doc. 2024-18123 Filed 8-19-24; 8:45 am]

BILLING CODE 6712-01-P